DEPARTMENT OF DEFENSE

Department of the Navy

Notice of Public Meetings for the Draft Environmental Impact Statement for Basing of MV-22 and H-1 Aircraft in Support of III Marine Expeditionary Force Elements in Hawaii

AGENCY: Department of the Navy, DoD.

ACTION: Notice.

SUMMARY: Pursuant to Section (102)(2)(c) of the National Environmental Policy Act (NEPA) of 1969, and regulations implemented by the Council on Environmental Quality (40 Code of Federal Regulations [CFR] Parts 1500-1508), Department of Navy (DoN) NEPA regulations (32 CFR part 775), and U.S. Marine Corps (USMC) NEPA directives (Marine Corps Order P5090.2A, change 2), DoN has prepared and filed with the U.S. Environmental Protection Agency a Draft Environmental Impact Statement (DEIS) that evaluates the potential environmental consequences that may result from the basing of Osprey tiltrotor (MV-22) and Cobra and Huey attack and utility (H-1) aircraft in support of III Marine Expeditionary Force (MEF) elements in Hawaii. The Department of the Army (DoA) is a cooperating agency for this DEIS because the proposed squadrons would train on land currently owned or controlled by the DoA.

With the filing of the DEIS, the DoN is initiating a 45-day public comment period and has scheduled five public comment meetings to receive oral and written comments on the DEIS. Federal, state and local agencies and interested parties are encouraged to provide comments in person at any of the public comment meetings, or in writing anytime during the public comment period. This Notice announces the dates and locations of the public meetings and provides supplementary information about the environmental planning effort.

Per 36 CFR part 800.8, the DoN is integrating the NEPA and National Historic Preservation Act (NHPA) public involvement processes. In addition to meeting NEPA public involvement requirements, the public meetings will provide opportunities for NHPA Section 106 input regarding the identification and treatment of historic properties.

DATES: The DEIS will be distributed to Federal, State, and local agencies, elected officials, and other interested parties on November 10, 2011, initiating the public comment period, which will end on December 27, 2011. Each of the five public meetings will have specific times set aside for NHPA Section 106 public involvement and an informational open house. USMC and DoN representatives will be available to clarify information related to the DEIS. The public comment meetings will be held on the dates and at the times and locations indicated below:

1. Wednesday, November 30, 2011, Waimea Elementary School Cafeteria, 67-1225 Mamalahoa Hwy, Kamuela, HI, 5:30-6:30 p.m.: NHPA Section 106 input, 6:30-8:30 p.m.: Open house.

2. Thursday, December 1, 2011, Hilo Intermediate School Cafeteria, 587 Waianuenue Avenue, Hilo, HI, 4:30-5:30 p.m.: NHPA Section 106 input, 5:30-7:30 p.m.: Open house.

3. Tuesday, December 6, 2011, Mililani Middle School Cafeteria, 95-1140 Lehiwa Drive, Mililani, HI, 5:30-6:30 p.m.: NHPA Section 106 input, 6:30-8:30 p.m.: Open house.

4. Wednesday, December 7, 2011, Waimanalo Elementary & Intermediate School Cafeteria, 41-1330 Kalanianaole Highway, Waimanalo, HI, 5:30-6:30 p.m.: NHPA Section 106 input, 6:30-8:30 p.m.: Open house.

5. Thursday, December 8, 2011, Castle High School Cafeteria, 45-386 Kaneohe Bay Drive, Kaneohe, HI, 5:30-6:30 p.m.: NHPA Section 106 input, 6:30-9 p.m.: Open house.

Attendees will be able to submit written comments at the public meetings. DEIS team members will be present to receive oral comments; however, to ensure the accuracy of the record, all statements should be submitted in writing. Equal weight will be given to oral and written statements. All statements submitted during the public review period will become part of the public record on the DEIS and will be addressed in the Final EIS. Comments may also be submitted by U.S. mail or electronically, as described below.

The DEIS is available at the project Web site, www.mcbh.usmc.mil/mv22h1eis [please note: 1, before “eis” in the Web site address, is numeric], and at the libraries identified at the end of this notice.

ADDRESSES: Comments on the DEIS can be submitted via the project Web site or submitted in writing to: Department of the Navy, Naval Facilities Engineering Command, Pacific Division, Attn: EV21, MV-22/H-1 EIS Project Manager, 258 Makalapa Drive, Suite 100, Pearl Harbor, HI 96860-3134. Mailed comments must be postmarked no later than December 27, 2011, and electronic comments must be submitted by midnight, December 27, 2011, to be considered in this environmental review process.

FOR FURTHER INFORMATION CONTACT: Naval Facilities Engineering Command, Pacific Division, Attn: EV21, MV-22/H-1 EIS Project Manager, 258 Makalapa Drive, Suite 100, Pearl Harbor, HI 96860-3134.

SUPPLEMENTARY INFORMATION: A Notice of Intent for the EIS was published in the Federal Register on August 6, 2010 (Vol. 75, No. 151, pp. 47562-47564).

Proposed Action

The Proposed Action includes: (1) Basing and operating up to two Marine Medium Tiltrotor Squadrons (VMM) and one Marine Light Attack Helicopter Squadron (HMLA) to service USMC operations in Hawaii, and (2) conducting aviation training, readiness, and special exercise operations to attain and maintain proficiency in the employment of the MV-22 and H-1 (AH-1 and UH-1) aircraft at training facilities statewide. Demolition, new construction, and renovation are proposed to develop basing facilities for the VMM and HMLA squadrons. Specific activities would include: Construction, demolition and renovation of hangars and other structures; taxiway and parking apron improvements; construction of additional bachelor enlisted quarters (BEQs); construction of Marine Aviation Group 24 headquarters and parking structure; and expansion of Marine Aviation Logistics Squadron 24 aircraft maintenance facilities. Existing facilities would be used to the extent possible.

Purpose and Need

The purpose of the Proposed Action is to ensure that the Marine Air Ground Task Force (MAGTF) is capable of supporting the needs of the III MEF operational commander to carry out legally mandated responsibilities in Hawaii. The need for the Proposed Action is to correct existing rotary-wing deficiencies of the MAGTF in Hawaii and the need for “work-arounds” through gap deployments from elsewhere (e.g., from the continental U.S.). The purpose and need described here support the goals stated in the FY2011 Aviation Plan: (1) Sustain wartime operational tempo while improving current readiness and effectiveness through efficient use of existing resources; (2) execute planned transition strategies from legacy equipment to advanced capabilities of the next generation of equipment; and (3) improve war-fighting integration between the air, ground, and logistic elements of the MAGTF.

Alternatives Considered in the DEIS

The DEIS evaluates the following facility alternatives at Marine Corps Base (MCB) Hawaii Kaneohe Bay:

Alternative A (preferred): Accommodate all aviation facilities on the southeast side of the runway.

Alternative B: Accommodate MV-22 facilities on the northwest side of the runway at West Field, and accommodate all other aviation facilities on the southeast side of the runway; construct a runway underpass for access to West Field.

No Action Alternative: The following elements would be the same under both action alternatives: Number and type of personnel added to MCB Hawaii Kaneohe Bay, types of basing facilities that are required, improvements at training areas, and type and tempo of training operations. Both action alternatives would involve demolition, new construction, replacement, and renovation of facilities at MCB Hawaii Kaneohe Bay, and include improvements to existing facilities at Marine Corps Training Area Bellows (MCTAB) on the island of Oahu, Pohakuloa Training Area (PTA) on the island of Hawaii, and Molokai Training Support Facility (MTSF) on the island of Molokai.

Under either Alternative A or B, the VMM and HMLA squadrons would conduct training operations at: MCTAB; the DoA's Kahuku, Kawailoa, and Schofield Barracks East Range Training Areas and Dillingham Military Reservation on the island of Oahu; PTA and Upolu Airport on the island of Hawaii; Pacific Missile Range Facility on the island of Kauai; MTSF and Kalaupapa Airport on the island of Molokai; and the Hawaii Army National Guard Facility on the island of Maui.

With the No Action Alternative, the VMM and HMLA squadrons would not be based in Hawaii, and no facilities would be constructed at MCB Hawaii Kaneohe Bay or at the training areas to accommodate them. The No Action Alternative does not meet the purpose and need for the proposed action, but is included to provide a baseline against which the action alternatives may be compared.

Potential impacts are evaluated in the DEIS under all alternatives for the following resources/issues: Land use; airspace; air quality; noise; geology, soils, and topography; drainage, hydrology, and water quality; biological resources; cultural resources; safety and environmental health; socioeconomics; infrastructure; and energy use.

The DEIS describes an array of conservation and construction measures and features of project design and planning that would avoid or minimize most potential impacts. The proposed action would fully comply with regulatory requirements for the protection of environmental resources.

Implementing Alternative A or B would have construction impacts on cultural resources at MCB Hawaii Kaneohe Bay and at MCTAB, as well as potential impacts from MV-22 rotor downwash on archaeological sites in some of the training areas. Impacts on historic buildings and archaeological resources at MCB Hawaii Kaneohe Bay would vary between the two alternatives due to the placement of some facilities on different sides of the runway, as well as different options presented for BEQ demolition and construction. Impacts on archaeological resources at MCTAB would depend on the depth of ground-disturbing activities during construction. Impacts on archaeological features at certain landing zones (LZs) in the Kahuku and Kawailoa Training Areas on the island of Oahu and at PTA on the island of Hawaii cannot currently be assessed because archaeological surveys of those areas have not been completed. The extent of impacts due to MV-22 rotor downwash would depend on the location and depth of such features. Surveys of these areas will be completed and any impacts evaluated prior to use of the LZs by the MV-22 squadrons (VMM). Any required avoidance or mitigation measures for cultural resources impacts resulting from implementation of the proposed action would be documented in the Programmatic Agreement being prepared as part of the NHPA Section 106 process.

With Alternative A or B, there is a potential for traffic impacts at MCB Hawaii Kaneohe Bay. These would be mitigated with improvements at three intersections and improvement of procedures at the entry gates for increased efficiency and capacity.

Impacts on the endangered Hawaiian hoary bat (Lasiurus cinereus semotus) are possible at the DoA training areas on Oahu and at PTA on the island of Hawaii. DoN has submitted a biological evaluation to the U.S. Fish & Wildlife Service with a determination of “may affect but not likely to adversely affect,” in compliance with Section 7 of the Endangered Species Act. In addition, DoN has made “no effect” determinations for two endangered species at PTA, creeping mint (Stenogyne angustifolia) and nene or Hawaiian goose (Branta sandvicensis).

Another possible impact during operations is erosion due to MV-22 rotor downwash at unpaved LZs where soils have high erosion potential (Schofield Barracks East Range and parts of Kawailoa Training Area). Conditions would be monitored at these landing zones. Should field observations verify the occurrence of soil erosion, the USMC would work with the range manager to implement appropriate repairs or other management actions.

Schedule: The Notice of Availability publication in the Federal Register and local print media starts the 45-day public comment period for the DEIS. The USMC will consider and respond to all written and electronic comments, including email, submitted as described above in preparing the Final EIS. DoN intends to issue the Final EIS in 2012, at which time a Notice of Availability will be published in the Federal Register and local media. A Record of Decision is expected in 2012.

Copies of the DEIS are available for public review at the following libraries within the State of Hawaii:

1. Island of Hawaii Libraries:

Hilo: 300 Waianuenue Ave, Hilo, HI 96720.

Hilo: UH Hilo, 200 W. Kawili St, Hilo, HI 96720.

Kailua-Kona: 75-138 Hualalai Rd, Kailua-Kona, HI 96740.

North Kohala: 54-3645 Akoni Pule Hwy, Kapaau, HI 96755.

Thelma Parker: 67-1209 Mamalahoa Hwy, Kamuela, HI 96743.

2. Island of Maui Libraries:

Kahului: 90 School St, Kahului, HI 96732.

Kahului: UH Maui College, 310 W. Kaahumanu Ave, Kahului, HI 96732.

Kihei: 35 Waimahaihai St, Kihei, HI 96753.

Wailuku: 251 High St, Wailuku, HI 96793.

3. Island of Kauai Libraries:

Lihue: 4344 Hardy St, Lihue, HI 96766.

Lihue: Kauai Community College, 3-1901 Kaumualii Hwy, Lihue, HI 96766.

Waimea: P.O. Box 397, Waimea, HI 96796.

4. Island of Molokai Library:

Kaunakakai: P.O. Box 395, Kaunakakai, HI 96748.

5. Island of Oahu Libraries:

Honolulu: Hawaii State Library, 478 S. King St, Honolulu, HI 96813.

Honolulu: UH Manoa—Hamilton Library, 2550 McCarthy Mall, Honolulu, HI 96822.

Kahuku: 56-490 Kamehameha Hwy, Kahuku, HI 96731.

Kailua: 239 Kuulei Rd, Kailua, HI 96734.

Kaneohe: 45-829 Kamehameha Hwy, Kaneohe, HI 96744.

Kaneohe Windward Community College, 45-720 Keaahala Rd, Kaneohe, HI 96744.

Mililani: 95-450 Makaimoimo St, Mililani, HI 96789.

Wahiawa: 820 California Ave, Wahiawa, HI 96786.

Waialua: P.O. Box 684, Waialua, HI 96791.

Waimanalo: 41-1320 Kalanianaole Hwy, Waimanalo, HI 96795.

Dated: November 3, 2011.
L. M. Senay,
Lieutenant, Office of the Judge Advocate General, U.S. Navy, Alternate Federal Register Liaison Officer.

[FR Doc. 2011-29119 Filed 11-9-11; 8:45 am]

BILLING CODE 3810-FF-P